DEPARTMENT OF TRANSPORTATION

Federal Aviation Administration

14 CFR Part 39

[Docket No. FAA-2013-0830; Directorate Identifier 2013-NM-128-AD; Amendment 39-17776; AD 2014-05-03]

RIN 2120-AA64

Airworthiness Directives; The Boeing Company Airplanes

AGENCY: Federal Aviation Administration (FAA), DOT.

ACTION: Final rule.

SUMMARY: We are adopting a new airworthiness directive (AD) for certain The Boeing Company Model 777 airplanes. This AD was prompted by a report of cracking in the fuselage skin underneath the satellite communication (SATCOM) antenna adapter. This AD requires repetitive inspections of the visible fuselage skin and doubler if installed, for cracking, corrosion, and any indication of contact of a certain fastener to a bonding jumper, and repair if necessary. We are issuing this AD to detect and correct cracking and corrosion in the fuselage skin, which could lead to rapid decompression and loss of structural integrity of the airplane.

DATES: This AD is effective April 9, 2014.

The Director of the Federal Register approved the incorporation by reference of a certain publication listed in this AD as of April 9, 2014.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425 227-1221.

Examining the AD Docket

You may examine the AD docket on the Internet at http://www.regulations.gov by searching for and locating Docket No. FAA-2013-0830; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Melanie Violette, Aerospace Engineer, Airframe Branch, ANM-120S, FAA, Seattle Aircraft Certification Office, 1601 Lind Avenue SW., Renton, WA 98057-3356; phone: (425) 917-6422; fax: (425) 917-6590; email: melanie.violette@faa.gov.

SUPPLEMENTARY INFORMATION:

Discussion

We issued a notice of proposed rulemaking (NPRM) to amend 14 CFR part 39 by adding an AD that would apply to certain The Boeing Company Model 777 airplanes. The NPRM published in the Federal Register on September 26, 2013 (78 FR 59293). The NPRM was prompted by a report of cracking in the fuselage skin underneath the satellite communication (SATCOM) antenna adapter. The NPRM proposed to require repetitive inspections of the visible fuselage skin and doubler if installed, for cracking, corrosion, and any indication of contact of a certain fastener to a bonding jumper, and repair if necessary. We are issuing this AD to detect and correct cracking and corrosion in the fuselage skin, which could lead to rapid decompression and loss of structural integrity of the airplane.

Comments

We gave the public the opportunity to participate in developing this AD. The following presents the comments received on the proposal (78 FR 59293, September 26, 2013) and the FAA's response to each comment.

Request To Revise Paragraph (h)(1) of the NPRM (78 FR 59293, September 26, 2013) To Include Footnotes

Boeing requested that paragraph (h)(1) of the NPRM (78 FR 59293, September 26, 2013) be revised to include the footnotes to Tables 1, 5, and 9 of paragraph 1.E. “Compliance,” in addition to the “Questionnaire Column,” specified in Boeing Alert Service Bulletin 777-53A0068, dated June 12, 2013. Boeing stated that the statement, “at the time of the original issue date of this service bulletin” is not only used in the “Condition Questionnaire” column of Tables 1, 5, and 9 of paragraph 1.E. “Compliance,” but it is also used in the footnotes.

We agree with Boeing's request. We have revised paragraph (h)(1) of this final rule by removing the phrase “the `Condition Questionnaire' column in” so that the exception applies to the entire table including the footnotes.

Request To Revise Paragraph (h)(1) of the NPRM (78 FR 59293, September 26, 2013) To Include the Compliance Time Column of Tables 2 Through 12

American Airlines (AA) requested that paragraph (h)(1) of the NPRM (78 FR 59293, September 26, 2013) be revised to include exceptions for the footnotes in Tables 1, 5, and 9, and the compliance times in Tables 2, 3, 4, 6, 7, 8, 10, 11, and 12, as specified in Boeing Alert Service Bulletin 777-53A0068, dated June 12, 2013. AA stated that paragraph (h)(1) of the NPRM creates exceptions to the service information in the “Condition Questionnaire” column in Tables 1, 5, and 9 of paragraph 1.E. “Compliance” of Boeing Alert Service Bulletin 777-53A0068, dated June 12, 2013, in that it allows a change in wording from “. . . at the time of the original issue of this service bulletin” to “. . . as of the effective date of this AD.” AA stated that this exception should be allowed for Tables 2 through 12 of paragraph 1.E. “Compliance,” of Boeing Alert Service Bulletin 777-53A0068, dated June 12, 2013.

We partially agree with AA's request. As stated previously, we have revised paragraph (h)(1) of this final rule to address the footnotes in Tables 1, 5, and 9, of paragraph 1.E. “Compliance,” of Boeing Alert Service Bulletin 777-53A0068, dated June 12, 2013. However, paragraph (h)(2) of this final rule already provides the exception for certain compliance times for Tables 2, 3, 4, 6, 7, 8, 10, 11, and 12, of paragraph 1.E. “Compliance,” of Boeing Alert Service Bulletin 777-53A0068, dated June 12, 2013. Therefore, no change is necessary to the final rule in this regard.

Request To Add a Terminating Action

FedEx requested that a terminating action be added prior to the release of the final rule. FedEx stated that Boeing should revise Boeing Alert Service Bulletin 777-53A0068, dated June 12, 2013, to include a terminating action. FedEx stated that although the initial inspection can be planned during a scheduled maintenance visit, the repetitive inspections will require additional, unscheduled, and out of service time. FedEx also stated that the terminating action would alleviate any additional maintenance, scheduled or otherwise.

We disagree. We do not consider that delaying this action until after the release of new service information is warranted. We do not agree to delay this final rule while a terminating action is being developed due to the unsafe condition that exists. However, under the provisions of paragraph (i)(1) of this final rule, we will consider alternative methods of compliance if sufficient data are submitted to substantiate that the change would provide an acceptable level of safety. We have not changed this final rule in this regard.

Conclusion

We reviewed the relevant data, considered the comments received, and determined that air safety and the public interest require adopting this AD with the change described previously, and minor editorial changes. We have determined that these minor changes:

• Are consistent with the intent that was proposed in the NPRM (78 FR 59293, September 26, 2013) for correcting the unsafe condition; and

• Do not add any additional burden upon the public than was already proposed in the NPRM (78 FR 59293, September 26, 2013).

We also determined that these changes will not increase the economic burden on any operator or increase the scope of this AD.

Costs of Compliance

We estimate that this AD affects 120 airplanes of U.S. registry.

We estimate the following costs to comply with this AD:

Estimated Costs
Action | Labor cost | Parts cost | Cost per product | Cost on U.S. operators
Inspection | Up to 36 work-hours × $85 per hour = $3,060 per inspection cycle | $0 | Up to $3,060 per inspection cycle | Up to $367,200 per inspection cycle.

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-05-03 The Boeing Company: Amendment 39-17776; Docket No. FAA-2013-0830; Directorate Identifier 2013-NM-128-AD.

(a) Effective Date

This AD is effective April 9, 2014.

(b) Affected ADs

None.

(c) Applicability

This AD applies to The Boeing Company Model 777-200, -200LR, -300, -300ER, and -777F series airplanes, certificated in any category, as identified in Boeing Alert Service Bulletin 777-53A0068, dated June 12, 2013.

(d) Subject

Air Transport Association (ATA) of America Code 53, Fuselage.

(e) Unsafe Condition

This AD was prompted by a report of cracking in the fuselage skin underneath the satellite communication (SATCOM) antenna adapter. We are issuing this AD to detect and correct cracking and corrosion in the fuselage skin, which could lead to rapid decompression and loss of structural integrity of the airplane.

(f) Compliance

Comply with this AD within the compliance times specified, unless already done.

(g) Repetitive Inspections

(1) For Groups 1-4 airplanes, and Group 5, Configurations 3 and 4 airplanes, identified in Boeing Alert Service Bulletin 777-53A0068, dated June 12, 2013: Except as required by paragraphs (h)(1) and (h)(2) of this AD, within the applicable compliance times specified in paragraph 1.E., “Compliance,” of Boeing Alert Service Bulletin 777-53A0068, dated June 12, 2013, do internal detailed and surface high frequency eddy current (HFEC) inspections of the visible fuselage skin, and doubler if installed, for cracking; do external detailed and surface HFEC inspections of the visible fuselage skin, and doubler if installed, for cracking, corrosion, and any indication that shows a contact of a certain fastener to a bonding jumper; and do all applicable repairs; in accordance with the Accomplishment Instructions of Boeing Alert Service Bulletin 777-53A0068, dated June 12, 2013, except as required by paragraph (h)(3) of this AD. Thereafter, repeat the inspections at the applicable intervals specified in paragraph 1.E., “Compliance,” of Boeing Alert Service Bulletin 777-53A0068, dated June 12, 2013. Do all applicable repairs before further flight.

(2) For Group 5, Configurations 1, 2, and 5 airplanes, identified in Boeing Alert Service Bulletin 777-53A0068, dated June 12, 2013: No action is required by this AD.

(h) Exceptions to the Service Information

(1) Tables 1, 5, and 9 of paragraph 1.E., “Compliance,” of Boeing Alert Service Bulletin 777-53A0068, dated June 12, 2013, refer to airplanes with certain conditions “at the time of the original issue date of this service bulletin.” For this AD, use “as of the effective date of this AD” instead of “at the time of the original issue date of this service bulletin.”

(2) Where paragraph 1.E., “Compliance,” of Boeing Alert Service Bulletin 777-53A0068, dated June 12, 2013, specifies a compliance time “after the original issue date of this service bulletin,” this AD requires compliance within the specified compliance time after the effective date of this AD.

(3) If any crack, corrosion, or indication that shows a contact of the fastener attaching the SATCOM lug adapter plate to the bonding plate is found during any inspection required by this AD, and Boeing Alert Service Bulletin 777-53A0068, dated June 12, 2013, specifies to contact Boeing for repair instructions: Before further flight, repair using a method approved in accordance with the procedures specified in paragraph (i) of this AD.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (i) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(j) Related Information

For more information about this AD, contact Melanie Violette, Aerospace Engineer, Airframe Branch, ANM 120S, FAA, Seattle Aircraft Certification Office, 1601 Lind Avenue SW., Renton, WA 98057 3356; phone: (425) 917-6422; fax: (425) 917-6590; email: melanie.violette@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 777-53A0068, dated June 12, 2013.

(ii) Reserved.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425 227-1221.

(5) You may view this service information that is incorporated by reference at the National Archives and Records Administration (NARA). For information on the availability of this material at NARA, call 202-741-6030, or go to: http://www.archives.gov/federal-register/cfr/ibr-locations.html.

Issued in Renton, Washington, on February 18, 2014.
Ross Landes,
Acting Manager, Transport Airplane Directorate, Aircraft Certification Service.

[FR Doc. 2014-04547 Filed 3-4-14; 8:45 am]

BILLING CODE 4910-13-P